FEDERAL COMMUNICATIONS COMMISSION

47 CFR Part 73

[DA No. 00-498; MM Docket No. 99-13; RM-9428]

Radio Broadcasting Services; Palacios, TX

AGENCY: Federal Communications Commission.

ACTION: Proposed rule; withdrawal.

SUMMARY: This document dismisses a petition for rule making filed by Prawn Broadcasting Company requesting the allotment of Channel 252A at Palacios, Texas. See 64 FR 5737, February 5, 1999. Prawn Broadcasting Company withdrew its interest in the allotment of Channel 252A at Palacios, Texas. With this action, this proceeding is terminated.

FOR FURTHER INFORMATION CONTACT: Kathleen Scheuerle, Mass Media Bureau, (202) 418-2180

SUPPLEMENTARY INFORMATION: This is a summary of the Commission's Report and Order, MM Docket No. 99-13, adopted February 23, 2000, and released March 3, 2000. The full text of this Commission decision is available for inspection and copying during normal business hours in the Commission's Reference Center, 445 Twelfth Street, SW, Washington, DC. The complete text of this decision may also be purchased from the Commission's copy contractors, International Transcription Services, Inc., 1231 20th Street, NW., Washington, DC. 20036, (202) 857-3800, facsimile (202) 857-3805.

Federal Communications Commission.
John A. Karousos,
Chief, Allocations Branch, Policy and Rules Division, Mass Media Bureau.

[FR Doc. 00-7648 Filed 3-28-00; 8:45 am]

BILLING CODE 6712-01-U